DEPARTMENT OF TRANSPORTATION

Federal Aviation Administration

14 CFR Part 97

[Docket No. 30909; Amdt. No. 3544]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 22, 2013. The compliance date for each SIAP, associated Takeoff Minimums, and ODP is specified in the amendatory provisions.

The incorporation by reference of certain publications listed in the regulations is approved by the Director of the Federal Register as of July 22, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 7.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—-(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on July 5, 2013.
John Duncan,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 22 August 2013

Allakaket, AK, Allakaket, Takeoff Minimums and Obstacle DP, Amdt 2

Gustavus, AK, Gustavus, RNAV (GPS) RWY 29, Amdt 2

Juneau, AK, Juneau Intl, JUNEAU FIVE, Graphic DP

Juneau, AK, Juneau Intl, LDA X RWY 8, Amdt 12

Juneau, AK, Juneau Intl, RNAV (GPS) V RWY 8, Amdt 2

Kasigluk, AK, Kasigluk, RNAV (GPS) RWY 17, Orig

Kasigluk, AK, Kasigluk, RNAV (GPS) RWY 35, Orig

Kasigluk, AK, Kasigluk, Takeoff Minimums and Obstacle DP, Orig

Sitka, AK, Sitka Rocky Gutierrez, BIORKA TWO, Graphic DP

Sitka, AK, Sitka Rocky Gutierrez, DF-A, Orig, CANCELED

Sitka, AK, Sitka Rocky Gutierrez, RNAV (GPS) RWY 11, Amdt 1

Yakutat, AK, Yakutat, RNAV (GPS) RWY 2, Amdt 3

Yakutat, AK, Yakutat, RNAV (GPS) RWY 11, Amdt 4

Yakutat, AK, Yakutat, RNAV (GPS) RWY 29, Amdt 4

Marion, AL, Vaiden Field, RNAV (GPS) RWY 16, Amdt 1

Marion, AL, Vaiden Field, RNAV (GPS) RWY 34, Amdt 1

Montgomery, AL, Montgomery Rgnl (Dannelly Field), RNAV (GPS) RWY 3, Amdt 2

Fresno, CA, Fresno Yosemite Intl, ILS OR LOC/DME RWY 29R, ILS RWY 29R (SA CAT I), ILS RWY 29R (CAT II), ILS RWY 29R (CAT III), Amdt 38

Fresno, CA, Fresno Yosemite Intl, LOC RWY 11L, Amdt 2

Fresno, CA, Fresno Yosemite Intl, RNAV (GPS) RWY 11L, Amdt 1

Fresno, CA, Fresno Yosemite Intl, RNAV (GPS) RWY 11R, Amdt 2

Fresno, CA, Fresno Yosemite Intl, RNAV (GPS) RWY 29L, Amdt 2

Fresno, CA, Fresno Yosemite Intl, RNAV (GPS) RWY 29R, Amdt 1

Fresno, CA, Fresno Yosemite Intl, Takeoff Minimums and Obstacle DP, Amdt 8

Fresno, CA, Fresno Yosemite Intl, VOR/DME OR TACAN RWY 11L, Amdt 2

San Francisco, CA, San Francisco Intl, ILS OR LOC RWY 19L, Amdt 20

San Francisco, CA, San Francisco Intl, ILS OR LOC RWY 28L, ILS RWY 28L (SA CAT II), Amdt 24

San Francisco, CA, San Francisco Intl, ILS OR LOC RWY 28R, ILS RWY 28R (CAT II), ILS RWY 28R (CAT III), ILS RWY 28R (SA CAT I), Amdt 12

San Francisco, CA, San Francisco Intl, ILS PRM RWY 28L (SIMULTANEOUS CLOSE PARALLEL), Amdt 3

San Francisco, CA, San Francisco Intl, LDA/DME RWY 28R, Amdt 2

San Francisco, CA, San Francisco Intl, LOC/DME Y RWY 28L, Orig, CANCELED

San Francisco, CA, San Francisco Intl, LOC/DME Y RWY 28R, Orig, CANCELED

San Francisco, CA, San Francisco Intl, LDA PRM RWY 28R (SIMULTANEOUS CLOSE PARALLEL), Amdt 2

San Francisco, CA, San Francisco Intl, RNAV (GPS) RWY 10L, Amdt 2

San Francisco, CA, San Francisco Intl, RNAV (GPS) RWY 19L, Amdt 2

San Francisco, CA, San Francisco Intl, RNAV (GPS) RWY 19R, Amdt 1

San Francisco, CA, San Francisco Intl, RNAV (GPS) RWY 28L, Amdt 4

San Francisco, CA, San Francisco Intl, RNAV (GPS) PRM RWY 28L (SIMULTANEOUS CLOSE PARALLEL), Amdt 1

San Francisco, CA, San Francisco Intl, RNAV (GPS) PRM X RWY 28R (SIMULTANEOUS CLOSE PARALLEL), Amdt 1

San Francisco, CA, San Francisco Intl, RNAV (GPS) X RWY 28R, Amdt 1

San Francisco, CA, San Francisco Intl, RNAV (GPS) Y RWY 10R, Amdt 2

San Francisco, CA, San Francisco Intl, RNAV (GPS) Y RWY 19L, Orig-A, CANCELED

San Francisco, CA, San Francisco Intl, RNAV (GPS) Y RWY 19R, Orig-A, CANCELED

San Francisco, CA, San Francisco Intl, RNAV (GPS) Z RWY 28R, Amdt 4

San Francisco, CA, San Francisco Intl, RNAV (RNP) Y RWY 28R, Amdt 2

San Francisco, CA, San Francisco Intl, RNAV (RNP) Z RWY 10R, Amdt 2

San Francisco, CA, San Francisco Intl, VOR RWY 19L, Amdt 10

San Francisco, CA, San Francisco Intl, VOR-B, Amdt 7

Tinian Island, CQ, Tinian Intl, NDB-A, Amdt 2

Hollywood, FL, North Perry, Takeoff Minimums and Obstacle DP, Amdt 5

Quitman, GA, Quitman Brooks County, RNAV (GPS) RWY 10, Amdt 1

Quitman, GA, Quitman Brooks County, RNAV (GPS) RWY 28, Amdt 1

Albia, IA, Albia Muni, RNAV (GPS) RWY 13, Orig

Albia, IA, Albia Muni, RNAV (GPS) RWY 31, Amdt 1

Eagle Grove, IA, Eagle Grove Muni, RNAV (GPS) RWY 13, Amdt 1

Eagle Grove, IA, Eagle Grove Muni, RNAV (GPS) RWY 31, Amdt 2

Guthrie Center, IA, Guthrie County Rgnl, RNAV (GPS) RWY 18, Amdt 1

Guthrie Center, IA, Guthrie County Rgnl, RNAV (GPS) RWY 36, Amdt 1

Hampton, IA, Hampton Muni, RNAV (GPS) RWY 17, Amdt 1

Hampton, IA, Hampton Muni, RNAV (GPS) RWY 35, Amdt 1

Maquoketa, IA, Maquoketa Muni, RNAV (GPS) RWY 15, Amdt 1

Maquoketa, IA, Maquoketa Muni, RNAV (GPS) RWY 33, Amdt 1

Sioux City, IA, Sioux Gateway/Col. Bud Day Field, NDB RWY 17, Amdt 2

Sioux City, IA, Sioux Gateway/Col. Bud Day Field, RNAV (GPS) RWY 13, Orig-B

Sioux City, IA, Sioux Gateway/Col. Bud Day Field, RNAV (GPS) RWY 17, Orig-B

Sioux City, IA, Sioux Gateway/Col. Bud Day Field, RNAV (GPS) RWY 31, Orig-B

Boise, ID, Boise Air Terminal/Gowen Fld, RNAV (GPS) Y RWY 28R, Amdt 4A

Grangeville, ID, Idaho County, MELLR TWO, Graphic DP

Grangeville, ID, Idaho County, RNAV (GPS) RWY 7, Amdt 1

Grangeville, ID, Idaho County, RNAV (GPS) RWY 25, Amdt 1

Twin Falls, ID, Joslin Field—Magic Valley Rgnl, ILS OR LOC RWY 26, Amdt 10

Twin Falls, ID, Joslin Field—Magic Valley Rgnl, NDB RWY 26, Amdt 7

Twin Falls, ID, Joslin Field—Magic Valley Rgnl, RNAV (GPS) RWY 8, Amdt 1

Twin Falls, ID, Joslin Field—Magic Valley Rgnl, RNAV (GPS) RWY 26, Amdt 1

Twin Falls, ID, Joslin Field—Magic Valley Rgnl, Takeoff Minimums and Obstacle DP, Amdt 3

Twin Falls, ID, Joslin Field—Magic Valley Rgnl, VOR RWY 8, Amdt 5

Twin Falls, ID, Joslin Field—Magic Valley Rgnl, VOR RWY 26, Amdt 16

Twin Falls, ID, Joslin Field—Magic Valley Rgnl, VOR/DME RWY 8, Amdt 1

Peoria, IL, General Downing—Peoria Intl, RNAV (GPS) RWY 31, Amdt 1A

Portland, IN, Portland Muni, Takeoff Minimums and Obstacle DP, Orig-A

Ottawa, KS, Ottawa Muni, RNAV (GPS) RWY 17, Amdt 1

Ottawa, KS, Ottawa Muni, RNAV (GPS) RWY 35, Amdt 1

Monticello, KY, Wayne County, GPS RWY 3, Orig-A, CANCELED

Monticello, KY, Wayne County, GPS RWY 21, Orig-A, CANCELED

Monticello, KY, Wayne County, RNAV (GPS) RWY 3, Orig

Monticello, KY, Wayne County, RNAV (GPS) RWY 21, Orig

Prestonsburg, KY, Big Sandy Rgnl, Takeoff Minimums and Obstacle DP, Amdt 1A

Monroe, LA, Monroe Rgnl, VOR/DME RWY 4, Amdt 3

Monroe, LA, Monroe Rgnl, VOR/DME RWY 32, Amdt 4

Hancock, MI, Houghton County Memorial, RNAV (GPS) RWY 7, Amdt 1

Hancock, MI, Houghton County Memorial, RNAV (GPS) RWY 13, Amdt 1

Kalamazoo, MI, Kalamazoo/Battle Creek International, LOC BC RWY 17, Amdt 19, CANCELED

Kalamazoo, MI, Kalamazoo/Battle Creek Intl, RNAV (GPS) RWY 17, Amdt 1

Traverse City, MI, Cherry Capitol, GPS RWY 36, Orig-B, CANCELED

Traverse City, MI, Cherry Capitol, RNAV (GPS) RWY 36, Orig

Dodge Center, MN, Dodge Center, RNAV (GPS) RWY 16, Amdt 1

Dodge Center, MN, Dodge Center, RNAV (GPS) RWY 34, Amdt 1

Jackson, MN, Jackson Muni, RNAV (GPS) RWY 13, Amdt 1

Jackson, MN, Jackson Muni, RNAV (GPS) RWY 31, Amdt 1

Wadena, MN, Wadena Muni, RNAV (GPS) RWY 16, Orig

Wadena, MN, Wadena Muni, RNAV (GPS) RWY 34, Amdt 1

Wadena, MN, Wadena Muni, Takeoff Minimums and Obstacle DP, Amdt 1

Cassville, MO, Cassville Muni, RNAV (GPS) RWY 9, Amdt 1

Cassville, MO, Cassville Muni, RNAV (GPS) RWY 27, Orig

Cassville, MO, Cassville Muni, Takeoff Minimums and Obstacle DP, Amdt 1

Fredericktown, MO, A. Paul Vance Fredericktown Rgnl, RNAV (GPS) RWY 1, Amdt 1

Fredericktown, MO, A. Paul Vance Fredericktown Rgnl, RNAV (GPS) RWY 19, Amdt 1

Fredericktown, MO, A. Paul Vance Fredericktown Rgnl, Takeoff Minimums and Obstacle DP, Amdt 1

Joplin, MO, Joplin Rgnl, RNAV (GPS) RWY 31, Amdt 1

Stockton, MO, Stockton Muni, RNAV (GPS) RWY 19, Orig-A

Jackson, MS, Jackson-Medgar Wiley Evers International, ILS OR LOC RWY 16L, ILS RWY 16L (SA CAT I), ILS RWY 16L (CAT II), ILS RWY 16L (CAT III), Amdt 8

Jackson, MS, Jackson-Medgar Wiley Evers International, ILS OR LOC RWY 34L, Amdt 6

Jackson, MS, Jackson-Medgar Wiley Evers International, VOR/DME OR TACAN RWY 16L, Orig

Jackson, MS, Jackson-Medgar Wiley Evers International, VOR/DME OR TACAN RWY 16R, Orig

Jackson, MS, Jackson-Medgar Wiley Evers International, VOR/DME OR TACAN RWY 34L, Orig

Jackson, MS, Jackson-Medgar Wiley Evers International, VOR/DME OR TACAN RWY 34R, Orig

Laurel, MS, Hesler-Noble Field, VOR/DME-A, Amdt 5

Madison, MS, Bruce Campbell Field, VOR-A, Amdt 10, CANCELED

Madison, MS, Bruce Campbell Field, VOR/DME RWY 17, Orig

Madison, MS, Bruce Campbell Field, VOR/DME-B, Amdt 5, CANCELED

Meridian, MS, Key Field, RNAV (GPS) RWY 1, Amdt 3

Meridian, MS, Key Field, RNAV (GPS) RWY 4, Amdt 1

Meridian, MS, Key Field, RNAV (GPS) RWY 19, Amdt 1

Meridian, MS, Key Field, RNAV (GPS) RWY 22, Amdt 1

Dickinson, ND, Dickinson—Theodore Roosevelt Rgnl, RNAV (GPS) RWY 25, Orig

Manville, NJ, Central Jersey Rgnl, RNAV (GPS) RWY 25, Amdt 1C

Toms River, NJ, Ocean County Airport, ILS OR LOC RWY 6, Amdt 2

Toms River, NJ, Ocean County Airport, RNAV (GPS) RWY 6, Orig

Toms River, NJ, Ocean County Airport, RNAV (GPS) RWY 24, Orig

Toms River, NJ, Ocean County Airport, Takeoff Minimums and Obstacle DP, Amdt 1

Toms River, NJ, Ocean County Airport, VOR RWY 6, Amdt 7

Toms River, NJ, Ocean County Airport, VOR/DME RWY 24, Amdt 4

Carlsbad, NM, Cavern City Air Trml, RNAV (GPS) RWY 3, Orig

Carlsbad, NM, Cavern City Air Trml, RNAV (GPS) RWY 14R, Amdt 1

Carlsbad, NM, Cavern City Air Trml, RNAV (GPS) RWY 21, Amdt 1

Eureka, NV, Eureka, MINES ONE, Graphic DP

Eureka, NV, Eureka, RNAV (GPS) RWY 18, Orig

Eureka, NV, Eureka, Takeoff Minimums and Obstacle DP, Orig

Lakeview, OR, Lake County, GPS RWY 34, Orig-A, CANCELED

Lakeview, OR, Lake County, RNAV (GPS) RWY 17, Orig

Lakeview, OR, Lake County, RNAV (GPS) RWY 35, Orig

Lakeview, OR, Lake County, Takeoff Minimums and Obstacle DP, Amdt 3

Scappoose, OR, Scappoose Industrial Airpark, LOC/DME RWY 15, Amdt 3

Sioux Falls, SD, Joe Foss Field, Takeoff Minimums and Obstacle DP, Amdt 8

Mc Minnville, TN, Warren County Memorial, GPS RWY 23, Orig, CANCELED

Mc Minnville, TN, Warren County Memorial, LOC RWY 23, Amdt 1, CANCELED

Mc Minnville, TN, Warren County Memorial, RNAV (GPS) RWY 23, Orig

Galveston, TX, Scholes Intl at Galveston, Takeoff Minimums and Obstacle DP, Amdt 5

Laredo, TX, Laredo Intl, RNAV (GPS) RWY 32, Amdt 1

Laredo, TX, Laredo Intl, RNAV (GPS) RWY 35L, Amdt 2

Plains, TX, Yoakum County, RNAV (GPS) RWY 3, Amdt 1

Plains, TX, Yoakum County, RNAV (GPS) RWY 21, Amdt 1

Waco, TX, Waco Rgnl, RNAV (GPS) RWY 1, Amdt 1A

Tooele, UT, Bolinder Field-TooeleValley, STACO TWO, Graphic DP, CANCELED

Quinton, VA, New Kent County, RNAV (GPS) RWY 11, Amdt 2

Quinton, VA, New Kent County, RNAV (GPS) RWY 29, Amdt 2

Quinton, VA, New Kent County, VOR-A, Amdt 2

Bremerton, WA, Bremerton National, Takeoff Minimums and Obstacle DP, Amdt 4

Spokane, WA, Felts Field, Takeoff Minimums and Obstacle DP, Amdt 6

Marshfield, WI, Marshfield Muni, RNAV (GPS) RWY 5, Orig

Marshfield, WI, Marshfield Muni, RNAV (GPS) RWY 23, Orig

[FR Doc. 2013-17413 Filed 7-19-13; 8:45 am]

BILLING CODE 4910-13-P